DEPARTMENT OF HOUSING AND URBAN DEVELOPMENT

[Docket No. FR-5217-N-01]

Notice of Regulatory Waiver Requests Granted for the First Quarter of Calendar Year 2008

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on January 1, 2008 and ending on March 31, 2008.

FOR FURTHER INFORMATION CONTACT: For general information about this notice, contact Aaron Santa Anna, Assistant General Counsel for Regulations, Department of Housing and Urban Development, 451 Seventh Street, SW., Room 10276, Washington, DC 20410-0500, telephone (202) 708-3055 (this is not a toll-free number). Persons with hearing- or speech-impairments may access this number through TTY by calling the toll-free Federal Information Relay Service at (800) 877-8339.

For information concerning a particular waiver that was granted and for which public notice is provided in this document, contact the person whose name and address follow the description of the waiver granted in the accompanying list of waivers that have been granted in the first quarter of calendar year 2008.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from January 1, 2008 through March 31, 2008. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR 58 would be listed before a waiver of a provision in 24 CFR 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the first quarter of calendar year 2008) before the next report is published (the second quarter of calendar year 2008), HUD will include any additional waivers granted for the first quarter in the next report.

Accordingly, information about approved waiver requests pertaining to HUD regulations is provided in the Appendix that follows this notice.

Dated: June 24, 2008.
Robert M. Couch,
General Counsel.

Appendix

Listing of Waivers of Regulatory Requirements Granted by Offices of the Department of Housing and Urban Development January 1, 2008 Through March 31, 2008

Note to Reader: More information about the granting of these waivers, including a copy of the waiver request and approval, may be obtained by contacting the person whose name is listed as the contact person directly after each set of regulatory waivers granted.

The regulatory waivers granted appear in the following order:

I. Regulatory Waivers Granted by the Office of Community Planning and Development

II. Regulatory Waivers Granted by the Office of Housing

III. Regulatory Waivers Granted by the Office of Public and Indian Housing

I. Regulatory Waivers Granted by the Office of Community Planning and Development

For further information about the following regulatory waivers, please see the name of the contact person that immediately follows the description of the waiver granted.

• Regulation: 24 CFR 58.22(a) and 24 CFR 58.43(a).

Project/Activity: The Miller project consisted of the development of 5.21 acres of land in Siletz, Oregon by the Confederated Tribes of Siletz Indians (CTSI). The development includes a maximum of 30 homes funded by approximately $5,897,890 of Indian Housing Block Grant funds from fiscal years 2001-2007. The CTSI purchased properties without conducting an environmental review and when a notice of a Finding of No Significant Impact (FONSI) was not mailed to interested parties and agencies.

Nature of Requirement: The first regulation, 24 CFR 58.22(a), requires that an environmental review be performed and a Request for Release of Funds be completed and certified prior to the commitment of non-HUD funds to a project using HUD funds. The second regulation, 24 CFR 58.43(a), requires that notice be issued when a responsible entity makes a FONSI.

Granted by: Roy A. Bernardi, Deputy Secretary.

Date Granted: January 17, 2008.

Reason Waived: The waiver was granted based on the following findings: the project furthered objectives of the Indian Housing Block Grant Program; the errors made in the environmental process were made in good faith and were not willful violations; and a site review and environmental assessment concluded that the granting of a waiver would not result in adverse environmental impact.

Contact: Danielle Schopp, Office of Environment and Energy, Office of Community and Planning Development, Department of Housing and Urban Development, 451 Seventh Street, SW., Room 7250, Washington, DC 20410-7000, telephone (202) 708-2470.

• Regulation: 24 CFR 58.22(a).

Project/Activity: The Heartland Hills project involved a $198,000 Economic Development Initiative Special Purpose grant for building rehabilitation, street and driveway construction, water line installation, and demolition preparation in Waverly, IA. The grant was issued to the Iowa Heartland Habitat for Humanity and Bremer County, IA, acted as Responsible Entity. Work was performed using non-HUD funds prior to the performance of an environmental review.

Nature of Requirement: The regulation requires that an environmental review be performed and a Request for Release of Funds be completed and certified prior to the commitment of non-HUD funds to a project using HUD funds.

Granted By: Nelson R. Bregón, General Deputy Assistant Secretary for Community Planning and Development.

Date Granted: February 5, 2008.

Reason Waived: The waiver was granted based on the following findings: the project furthered objectives of providing affordable housing of low-income residents; the errors made in the environmental process were made in good faith and were not willful violations; work ceased when the violation was discovered; and a site review and environmental assessment concluded that the granting of a waiver would not result in adverse environmental impact.

Contact: Danielle Schopp, Office of Environment and Energy, Office of Community Planning and Development, Department of Housing and Urban Development, 451 Seventh Street, SW., Room 7250, Washington, DC 20410-7000, telephone (202) 708-2470.

• Regulation: 24 CFR 58.22(a).

Project/Activity: The Conrad Prebys Clubhouse and Youth Center was a Boys & Girls Club project that included two Economic Development Initiative Special Purpose grants in the amounts of $325,000 and $459,000. The facility is located in Santee, CA, which also acted as the Responsible Entity. Work was performed using non-HUD funds to construct the project prior to the performance of an environmental review.

Nature of Requirement: The regulation requires that an environmental review be performed and a Request for Release of Funds be completed and certified prior to the commitment of non-HUD funds to a project using HUD funds.

Granted by: Nelson R. Bregón, General Deputy Assistant Secretary for Community Planning and Development.

Date Granted: March 4, 2008.

Reason Waived: The waiver was granted based on the following findings: the project furthered objectives of community development; the errors made in the environmental process were made in good faith and were not willful violations; and an environmental assessment concluded that the granting of a waiver will not result in adverse environmental impact.

Contact: Jerimiah Sanders, Office of Environment and Energy, Office of Community and Planning Development, Department of Housing and Urban Development, 451 Seventh Street, SW., Room 7250, Washington, DC 20410-7000, telephone (202) 708-2470.

• Regulations: 24 CFR 92.214(a)(1) and 24 CFR 92.214(a)(6).

Project/Activity: The State of Nebraska's Department of Economic Development requested a waiver of the HOME Program regulations 24 CFR 92.214(a)(1) and 24 CFR 92.214(a)(6) for three troubled HOME rental projects which were initially under-funded and underwritten to carry unacceptably high debt in relation to potential net operating income. The waiver permitted additional HOME funds to be provided and permitted HOME funds to be used for operating reserves to ensure viability of these projects. The additional HOME investment would be supplemented by the Nebraska Housing Trust Funds and would permit the State to retain 82 at-risk units as affordable rental housing.

Nature of Requirement: The HOME regulations at 24 CFR 92.214(a)(6) state that, except for the 12 months following project completion, additional HOME assistance may not be provided to a previously-assisted HOME project during the period of affordability. The HOME regulations at 24 CFR 92.214(a)(1) prohibits the use of HOME funds to capitalize project reserve accounts, except for initial operating deficit reserves not to exceed 18 months, as permitted under 24 CFR 92.206(d)(5).

Granted by: Nelson R. Bregón, General Deputy Assistant Secretary for Community Planning and Development.

Date Granted: March 14, 2008.

Reason Waived: HUD examined the workout plan for these projects and determined that it was desirable to facilitate continued operation of these properties as HOME assisted affordable rental housing. The additional HOME investment would stabilize the eight HOME units that are in compliance for the remainder of their affordability period, correct the previous noncompliance of thirty-one HOME units by restarting their affordability periods, and add an additional forty-three units which would carry HOME restrictions. These waivers permitted the State to retain 82 at-risk units as affordable housing.

Contact: Virginia Sardone, Director, Policy and Programs Division, Office of Affordable Housing Programs, Office of Community Planning and Development, Department of Housing and Urban Development, 451 Seventh Street, SW., Room 7158, Washington, DC 20410-7000, telephone (202) 402-4808.

• Regulations: 24 CFR 91.105(c); 24 CFR 92.203(a)(1) and (2) (HOME regulations), and 24 CFR 92.610(c) (ADDI regulations); Section 212(c) of the HOME Investment Partnerships Act (the Act), and 24 CFR 92.207; Section 212(a)(3) of the Act, and 92.209(b), (c), (h), (i), (j), and (k); 24 CFR 92.209(h)(3); 24 CFR 92.222(b); 24 CFR 92.251 and 24 CFR 92.612(b); 24 CFR 92.209(i) and 24 CFR 92.251(d); Section 225(d) of the Act, and 24 CFR 92.253(d); Section 215(b)(1) of the Act, and 24 CFR 92.254(a)(2); Section 231 of the Act and 24 CFR 92.300(a)(1); Section 271(c)(1) of the Act, and 24 CFR 92.602(a)(1); 24 CFR 92.353(e), and 24 CFR 42.375; 24 CFR 42.350(e)(1); 24 CFR 92.353(b)(2)(iii); Section 288 of the Act.

Project/Activity: The State of Oregon requested that HUD suspend HOME statutory requirements and waive HOME regulations to facilitate its recovery from the devastation caused by the Northwest December Storm for Clatsop, Columbia, Lincoln, Polk, Tillamook, and Yamhill counties. These counties are located within a declared disaster area pursuant to Title IV of the Robert T. Stafford Disaster Relief and Emergency Assistance Act.

Nature of Requirement: The requirements waived are as follows: § 91.105(c)—Citizen Participation Plan requirement to provide not less than 30 days for citizen comment to changes to the Consolidated Plan; § 92.203(a)(1) and (2) (HOME), and § 92.610(c) (ADDI)—Source Documentation for Income Determinations; Section 212(c) (Act) and 92.207—Limitation on Use of HOME funds for Administrative Costs; Section 212(a)(3) (Act) and 92.209(b), (c), (h), (i), (j) and (k)—Tenant-based Rental Assistance (TBRA): Eligible Costs and Requirements; § 92.209(h)(3)—Rent Standards for Tenant-based Rental Assistance (TBRA); 92.222(b)—Reduction of matching contribution requirement; § 92.251 and 92.612(b)—Property Standards for Units Rehabilitated with HOME and ADDI Assistance; § 92.209(i) and § 92.251(d)—Property Standards for Tenant-based Rental Assistance (TBRA); Section 225(d) of the Act and § 92.253(d)—Tenant and Participation Protections; Section 215(b)(1) of the Act and § 92.254(a)(2)—Homeownership Housing Maximum Values/Sales Price Limitation; Section 231 (Act) and § 92.300(a)(1)—Set-aside for Community Housing Development Organizations (CHDO); Section 271(c)(1) of the Act and § 92.602(a)(1)—First-time Homebuyer Requirement for ADDI; 92.353(e) and 42.375—Section 104(d) One-for-One Replacement Housing; § 92.353(e) and 42.350(e)(1)—Replacement Housing Assistance; 92.353(b)(2)(iii)—Decent, Safe and Sanitary Standard; and, Section 288 of the Act—Environmental Review Requirements.

Granted by: Nelson R. Bregón, General Deputy Assistant Secretary for Community Planning and Development.

Date Granted: February 4, 2008.

Reasons Waived: Due to the severity of the storm damage from the Northwest December Storm, the Department determined there was good cause to waive the above requirements.

Contact: Virginia Sardone, Director, Policy and Programs Division, Office of Affordable Housing Programs, Office of Community Planning and Development, Department of Housing and Urban Development, 451 Seventh Street, SW., Room 7158, Washington, DC 20410-7000, telephone (202) 402-4808.

• Regulations: 24 CFR 92.203(a)(1) and (2) (HOME), and 24 CFR 92.610(c) (ADDI); Section 212(a)(3) of the Act, and 92.209(b), (c), (h), (i), (j) and (k); 24 CFR 92.209(h)(3); 24 CFR 92.222(b); 24 CFR 92.251 and 24 CFR 92.612(b); 24 CFR 92.209(i) and 24 CFR 92.251(d); Section 225(d) of the Act, and 24 CFR 92.253(d); and 24 CFR 92.353(d).

Project/Activity: The State of Washington requested that HUD suspend statutory requirements and waive HOME regulations to facilitate the recovery from the displacement of households and/or the damage to homes caused by the severe storm and flooding occurring in December 2007 in the following counties: Clallam, Grays Harbor, King, Kitsap, Lewis, Mason, Pacific, Snohomish, Thurston and Wahkiakum Counties. These Counties are in a declared disaster area pursuant to Title IV of the Robert T. Stafford Disaster Relief and Emergency Assistance Act.

Nature of Requirement: The requirements are as follows: 24 CFR 92.203(a)(1) and (2) (HOME), and 24 CFR 92.610(c) (ADDI)—requiring that initial income determinations for HOME and ADDI beneficiaries be made using source documentation; Section 212(a)(3) of the Act, and 92.209(b), (c), (h), (i), (j) and (k) governing the HOME TBRA program; 24 CFR 92.209(h)(3)—requiring TBRA rent payments may not exceed the difference between the rent standard and 30 percent of the families' adjusted income; 24 CFR 92.222(b)—reducing the matching requirements; 24 CFR 92.251 and 24 CFR 92.612(b)—requiring housing assisted with HOME or ADDI funds meet certain property standards; 24 CFR 92.209(i) and 24 CFR 92.251(d)—providing that units occupied by recipients of HOME TBRA meet the Housing Quality Standards (HQS); Section 225(d) of the Act, and 24 CFR 92.253(d)—requiring written tenant selection policies and procedures; and 24 CFR 92.353(d)—requiring a written relocation policy.

Granted by: Nelson R. Bregón, General Deputy Assistant Secretary for Community Planning and Development.

Date Granted: February 21, 2008.

Reason Waived: Pursuant to Title IV of the Robert T. Stafford Disaster Relief and Emergency Assistance Act, President George W. Bush declared a major disaster for Clallam, Grays Harbor, King, Kitsap, Lewis, Mason, Pacific, Snohomish, Thurston and Wahkiakum Counties in the State of Washington as a result of a severe storm and flooding occurring in December 2007. Section 290 of the Cranston-Gonzalez National Affordable Housing Act of 1990 (NAHA), as amended, authorizes HUD to suspend certain HOME statutory and regulatory requirements for HOME participating jurisdictions located within Presidential declared disaster areas. It was determined that the waiver would facilitate the continued recovery of these counties.

Contact: Virginia Sardone, Director, Policy and Programs Division, Office of Affordable Housing Programs, Office of Community Planning and Development, Department of Housing and Urban Development, 451 Seventh Street, SW., Room 7158, Washington, DC 20410-7000, telephone (202) 402-4808.

• Regulations: 24 CFR 92.251(a)(1).

Project/Activity: Shelby County, Tennessee, requested a waiver to facilitate its recovery from damage caused by severe storms, tornadoes, straight-line winds, and flooding. The County was declared a major disaster area pursuant to Title IV of the Robert T. Stafford Disaster Relief and Emergency Assistance Act.

Nature of Requirement: Section 92.251(a)(1) of the HOME regulations in 24 CFR part 92 requires that housing assisted with HOME funds meet specific property and rehabilitation standards.

Granted by: Nelson R. Bregón, General Deputy Assistant Secretary for Community Planning and Development.

Date Granted: March 27, 2008.

Reasons Waived: It was determined that the waiver would facilitate the recovery of Shelby County from the damage caused by the severe storms, tornados and flooding of March and April 2006. The waiver would allow the County to make emergency repairs to storm-damaged, owner-occupied units and return these units to habitability more quickly, which would help the county to meet the critical housing needs of families whose homes were damaged and increase the number of assisted households.

Contact: Virginia Sardone, Director, Policy and Programs Division, Office of Affordable Housing Programs, Office of Community Planning and Development, Department of Housing and Urban Development, 451 Seventh Street, SW., Room 7158, Washington, DC 20410-7000, telephone (202) 402-4808.

• Regulations: 24 CFR 91.115(b)(4) and 24 CFR 91.115(i).

Project/Activity: The State of Oregon requests a waiver of the Community Development Block Grant (CDBG) regulation at 24 CFR 91.115(b)(4).

Nature of Requirement: Provisions of CDBG regulations at 24 CFR 91.115(b)(4) require that a minimum of thirty days be allowed for public comments to the changes to the Method of Distribution (MOD); while 24 CFR 91.115(i) requires the State to follow its citizen participation plan.

Granted by: Nelson R. Bregón, Assistant Secretary, Community Planning and Development.

Date Granted: February 01, 2008.

Reason Waived: A waiver of 91.115(b)(4), which provided reduced public comment period from 30 days to 3 days, would allow the State to implement the amendment to the 2008 MOD and annual action plan expeditiously and enable the State to provide assistance to affected units of general local government (UGLG) for disaster recovery in a timely manner. A waiver of 24 CFR 91.115(i) was determined necessary to permit the state to deviate from its citizen participation plan.

Contact: Diane Lobasso, Director, State and Small Cities Division, Office of Block Grant Assistance, Office of Community Planning and Development, Department of Housing and Urban Development, 451 Seventh Street, SW., Room 7184, Washington, DC 20410-7000, telephone (202) 402-2191.

• Regulation: 24 CFR 570.489(a)(1)(i) and (iii), Statutes: 42 U.S.C. 5306(d)(3)(A), (d)(6), as revised and renumbered by Public Law 108-199, Section 423 (and formerly codified as 42 U.S.C. 56306(d)(3)(A).

Project/Activity: The State of Oregon requested statutory suspension of 42 U.S.C. 5306(d)(3)(A), (d)(5) and (d)(6), Section 105(d)(3)(A) of the Housing and Community Development Act (HCDA); and a waiver of CDBG regulation at 24 CFR 570.489 (a)(1), (3).

Nature of Requirements: Provisions of CDBG statutes at 42 U.S.C. 5306(d)(3)(A)(d)(6) and the regulations at 24 CFR 570.489(a)(1)(i) and (iii), establish the State CDBG administrative cap at 2% and match requirements exceeding $100,000. Section 106(d) of the HCDA, allows grantees to use up to 2% of their allocation on state administration, 1% for technical assistance, or 3% of a combination thereof, in addition to $100,000 for administration without having to provide a match.

Granted by: Nelson R. Bregón, General Deputy Assistant Secretary, Community Planning and Development.

Date Granted: February 01, 2008.

Reason Waived: Due to the flood devastation, additional administrative funds were determined needed to assist the State of Oregon to recover from the disaster. By suspending the 2% administration cap and allowing use of matching funds for other purposes, the state would be able to administer its program and use CDBG funds needed in communities affected by the flood. This waiver would allow the State to provide additional administrative funds (from 2% to 4%) and remove the requirement that the State must match the amount of administrative expenses in excess of $100,000 that are used for disaster recovery activities. The State was not permitted to exceed the overall planning, management and administrative cap of 20 percent pursuant to 24 CFR 570.489(a)(3).

Contact: Diane Lobasso, Director, State and Small Cities Division, Office of Block Grant Assistance, Office of Community Planning and Development, Department of Housing and Urban Development, 451 Seventh Street, SW., Room 7184, Washington, DC 20410-7000, telephone (202) 402-2191.

• Regulation: 24 CFR 570.486(a)(5).

Project/Activity: The State of Oregon requested a waiver of CDBG regulation at 24 CFR 570.486(a)(5).

Nature of Requirement: Provisions of CDBG regulation at 24 CFR 570.486(a)(5) require each UGLG to provide for a minimum of two public hearings at different stages of a CDBG-funded activity to ensure local citizen participation.

Granted by: Nelson R. Bregón, General Deputy Assistant Secretary, Community Planning and Development.

Date Granted: February 01, 2008.

Reason Waived: Allowing the UGLG to conduct only one public hearing would expedite application processing and the provision of CDBG funds to the UGLG.

Contact: Diane Lobasso, Director, State and Small Cities Division, Office of Block Grant Assistance, Office of Community Planning and Development, Department of Housing and Urban Development, 451 Seventh Street, SW., Room 7184, Washington, DC 20410-7000, telephone (202) 402-2191.

II. Regulatory Waivers Granted by the Office of Housing—Federal Housing Administration (FHA)

For further information about the following regulatory waivers, please see the name of the contact person that immediately follows the description of the waiver granted.

• Regulation: 24 CFR 219.220(b).

Project/Activity: Hickory Hollow Cooperative I, Wayne, Michigan—FHA Project Number 044-55190. The owner is requesting waiver of the regulations that require repayment of the flexible subsidy loan and approval of a 30-year amortization of the flexible subsidy loan at a 1 percent interest rate.

Nature of Requirement: Section 219.220(b) governs the repayment of operating assistance provided under the Flexible Subsidy Program for Troubled Projects prior to May 1, 1996 states: “Assistance that has been paid to a project owner under this subpart must be repaid at the earlier of the expiration of the term of the mortgage, termination of these actions would typically terminate FHA involvement with the property, and the Flexible Subsidy loan would be repaid, in whole, at that time.”

Granted by: Brian D. Montgomery, Assistant Secretary for Housing—Federal Housing Commissioner.

Date Granted: March 11, 2008.

Reason Waived: The project has maintained affordability under the Section 221(d)(3) BMIR program and consistently received REAC scores above 60 since 2001. The project requires renovations to continue as a well-maintained source of affordable housing. By allowing waiver of this regulation, the project would remain as a cooperative. The owner would be allowed to prepay the existing mortgage, obtain financing to perform rehabilitation of the property, allow the amortization of the flexible subsidy loans with the new mortgage, and provide sufficient funds for the property's needed capital improvements.

Contact: Beverly J. Miller, Director, Office of Asset Management, Office of Housing, Department of Housing and Urban Development, 451 Seventh Street, SW., Washington, DC 20410-8000, telephone (202) 708-3730.

• Regulation: 24 CFR 219.220(b).

Project/Activity: Hickory Hollow Cooperative II, Wayne, Michigan—FHA Project Number 044-44151. The owner is requesting waiver of the regulations that require repayment of the flexible subsidy loan and approval of a 30-year amortization of the flexible subsidy loan at a 1 percent interest rate.

Nature of Requirement: Section 219.220(b) governs the repayment of operating assistance provided under the Flexible Subsidy Program for Troubled Projects prior to May 1, 1996 states: “Assistance that has been paid to a project owner under this subpart must be repaid at the earlier of the expiration of the term of the mortgage, termination of these actions would typically terminate FHA involvement with the property, and the Flexible Subsidy loan would be repaid, in whole, at that time.”

Granted by: Brian D. Montgomery, Assistant Secretary for Housing—Federal Housing Commissioner.

Date Granted: March 11, 2008.

Reason Waived: The project has maintained affordability under the Section 221(d)(3) BMIR program and consistently received REAC scores above 60 since 2001. The project requires renovations to continue as a well-maintained source of affordable housing. By allowing waiver of this regulation, the project would remain as a cooperative, the owner would be allowed to prepay the existing mortgage, obtain financing to perform rehabilitation of the property, allow the amortization of the flexible subsidy loans with the new mortgage, and provide sufficient funds for the property's needed capital improvements.

Contact: Beverly J. Miller, Director, Office of Asset Management, Office of Housing, Department of Housing and Urban Development, 451 Seventh Street, SW., Room 6160, Washington, DC 20410-8000, telephone (202) 708-3730.

• Regulation: 24 CFR 236.60(e).

Project/Activity: Remeeder Houses, Brooklyn, New York—FHA Project Number 012-44023. The owner has proposed to waive required submission of HUD-Form 93014, Monthly Report of Excess Income, in support of the sale and litigation of the property.

Nature of Requirement: Section 236.60(e) provides guidelines for retaining excess income. Excess income is defined as cash collected as rent from the residents by the mortgagor on a unit-by-unit basis, that is in excess of the HUD-approved unassisted Basic Rent. The mortgagor must submit a request to retain Excess Income at least 90 days before the beginning of each fiscal year or any other date during a fiscal year that the mortgagor plans to begin retaining Excess Income for that fiscal year. If HUD, following review of the request, approves the request the mortgagor will not be required to submit a new request each fiscal year provided the use of Excess Income remains the same.

Granted by: Brian D. Montgomery, Assistant Secretary for Housing—Federal Housing Commissioner.

Date Granted: January 18, 2008.

Reason Waived: The proposed sale and redevelopment of the project that includes tax-exempt bonds with low-income housing tax credits would restore the project to a decent, safe and sanitary condition for all tenants. The sale would assure that all HUD debt is paid, the mortgage is no longer HUD-Held and the project would remain an affordable housing resource for an additional 30 years through the execution of the Use Agreement as part of the Section 236 decoupling transaction.

Contact: Beverly J. Miller, Director, Office of Asset Management, Office of Housing, Department of Housing and Urban Development, 451 Seventh Street, SW., Room 6160, Washington, DC 20410-8000, telephone (202) 708-3730.

• Regulation: 24 CFR 290.30(a)

Project/Activity: Oakwood Gardens, Mount Vernon, New York—FHA Project Numbers: 012-57139V and 012-57139W. The owner has requested prepayment approval of their two HUD-Held mortgages. In addition, they are requesting the Department to assign the mortgages to the purchasing entity's new mortgagee, for mortgage recording tax savings in the State of New York.

Nature of Requirement: HUD's regulations governing the sale of HUD-Held mortgages are set forth in 24 CFR Part 290, subpart B, Section 290.30(a) of those regulations state that “[e]xcept as otherwise provided in Section 290.31(a)(2), HUD will sell HUD-Held multifamily mortgages on a competitive basis.” Section 290.31(a)(2) permits “negotiated” sales to state or local governments for mortgage loans that are current and secured by subsidized projects, provided such loans are sold with FHA insurance.

Granted by: Brian D. Montgomery, Assistant Secretary for Housing—Federal Housing Commissioner.

Date Granted: January 8, 2008.

Reason Waived: Waiver of the regulations covering the sale of HUD-Held mortgages to allow the non-competitive sale of the HUD-Held mortgages securing the project with FHA insurance has been approved. Good cause having been shown it is in the public interest, and consistent with the Secretary's objectives to waive the appropriate regulations in order to permit the non-competitive sale to Intervest National Bank. HUD will be paid in full for all three current mortgage loans at closing of this transaction.

Contact: Beverly J. Miller, Director, Office of Asset Management, Department of Housing and Urban Development, 451 Seventh Street, SW., Washington, DC 20410-7000, telephone (202) 708-3730, extension 2598.

• Regulation: 24 CFR 891.100(d).

Project/Activity: Baptist Retirement Village II, Gadsden, AL, Project Number: 062 EE080/AL09-S061-003.

Nature of Requirement: Section 891.100(d) prohibits amendment of the amount of the approved capital advance funds prior to initial closing.

Granted by: Brian D. Montgomery, Assistant Secretary for Housing—Federal Housing Commissioner.

Date Granted: January 8, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Mosaic Housing XVI-Farmington, Farmington, NM, Project Number: 116-HD029/NM16-Q061-001.

Nature of Requirement: Section 891.100(d) prohibits amendment of the amount of the approved capital advance funds prior to closing.

Granted by: Brian D. Montgomery, Assistant Secretary for Housing—Federal Housing Commissioner.

Date Granted: January 13, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: AASC Housing II, Anchorage, AK, Project Number: 176-HD027/AK06-Q051-001.

Nature of Requirement: Section 891.100(d) prohibits amendment of the amount of the approved capital advance funds prior to closing.

Granted by: Brian D. Montgomery, Assistant Secretary for Housing—Federal Housing Commissioner.

Date Granted: January 13, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: San Clemente Villas, Plant City, FL, Project Number: 067-EE143/FL29-S061-003.

Nature of Requirement: Section 891.100(d) prohibits amendment of the amount of the approved capital advance funds prior to closing.

Granted by: Brian D. Montgomery, Assistant Secretary for Housing—Federal Housing Commissioner.

Date Granted: January 16, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Rolling Meadows Senior Living, Taylorville, IL, Project Number: 072-EE167/IL06-S061-004.

Nature of Requirement: Section 891.100(d) prohibits amendment of the amount of the approved capital advance funds prior to closing.

Granted by: Brian D. Montgomery, Assistant Secretary for Housing—Federal Housing Commissioner.

Date Granted: January 20, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: St. Bernadette Manor II, Opelousas, LA, Project Number: 064-EE029/LA48-S061-009.

Nature of Requirement: Section 891.100(d) prohibits amendment of the amount of the approved capital advance funds prior to closing.

Granted by: Brian D. Montgomery, Assistant Secretary for Housing—Federal Housing Commissioner.

Date Granted: January 20, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Warren-Yazoo Mental Health Services, Vicksburg, MS, Project Number: 065-HD037/MS26-Q051-003.

Nature of Requirement: Section 891.100(d) prohibits amendment of the amount of the approved capital advance funds prior to closing.

Granted by: Brian D. Montgomery, Assistant Secretary for Housing—Federal Housing Commissioner.

Date Granted: January 23, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Kiamichi Place Senior Housing, Antlers, OK, Project Number: 118-EE045/OK56-S061-002.

Nature of Requirement: Section 891.100(d) prohibits amendment of the amount of the approved capital advance funds prior to closing.

Granted by: Brian D. Montgomery, Assistant Secretary for Housing—Federal Housing Commissioner.

Date Granted: January 23, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Harvard Supportive Housing Development, Harvard, IL, Project Number: 071-HD154/IL06-Q061-003.

Nature of Requirement: Section 891.100(d) prohibits amendment of the amount of the approved capital advance funds prior to closing.

Granted by: Brian D. Montgomery, Assistant Secretary for Housing—Federal Housing Commissioner.

Date Granted: January 23, 2008.

Reason Waived: The project is economically designed and comparable in cost to similar projects in the area, and the sponsor/owner exhausted all efforts to obtain additional funding from other sources.

Contact: Willie Spearmon, Director, Office of Housing Assistance and Grant Administration, Department of Housing and Urban Development, 451 Seventh Street, SW., Room 6134, Washington, DC 20410-8000, telephone (202) 708-3000.

• Regulation: 24 CFR 891.100(d).

Project/Activity: Apostles Village, Brandon, FL, Project Number: 067-EE137/FL29-S051-005.

Nature of Requirement: Section 891.100(d) prohibits amendment of the amount of the approved capital advance funds prior to closing.

Granted by: Brian D. Montgomery, Assistant Secretary for Housing—Federal Housing Commissioner.

Date Granted: January 23, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Rosewood Apartments, Erie, PA, Project Number: 033-HD101/PA28-Q061-003.

Nature of Requirement: Section 891.100(d) prohibits amendment of the amount of the approved capital advance funds prior to closing.

Granted by: Brian D. Montgomery, Assistant Secretary for Housing—Federal Housing Commissioner.

Date Granted: February 29, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Wilson Court II, Little Rock, AR, Project Number: 082-HD096/AR37-Q061-006.

Nature of Requirement: Section 891.100(d) prohibits amendment of the amount of the approved capital advance funds prior to closing.

Granted by: Brian D. Montgomery, Assistant Secretary for Housing—Federal Housing Commissioner.

Date Granted: March 5, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Candice Home, Crete, IL, Project Number: 071-HD153/IL06-Q051-007.

Nature of Requirement: Section 891.100(d) prohibits amendment of the amount of the approved capital advance funds prior to closing.

Granted by: Brian D. Montgomery, Assistant Secretary for Housing—Federal Housing Commissioner.

Date Granted: March 5, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Harvard Supportive Housing Development, Harvard, IL, Project Number: 071-HD154/IL06-Q061-003.

Nature of Requirement: Section 891.100(d) prohibits amendment of the amount of the approved capital advance funds prior to closing.

Granted by: Brian D. Montgomery, Assistant Secretary for Housing—Federal Housing Commissioner.

Date Granted: March 5, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulations: 24 CFR 891.100(d) and 24 CFR 891.165.

Project/Activity: Senior Living at Prouty, Spencer, MA, Project Number: 023-EE183/MA06-S051-000.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing—Federal Housing Commissioner.

Date Granted: March 7, 2008.

Reason Waived: The project is economically designed and comparable in cost to similar projects in the area, and the sponsor/owner exhausted all efforts to obtain additional funding from other sources. The sponsor/owner required additional time to prepare for initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Bristol Place Apartments, Bryant, AR, Project Number: 082-EE170/AR37-S051-002.

Nature of Requirement: Section 891.100(d) prohibits amendment of the amount of the approved capital advance funds prior to closing.

Granted by: Brian D. Montgomery, Assistant Secretary for Housing—Federal Housing Commissioner.

Date Granted: March 13, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Odenton Senior Housing II, Odenton, MD, Project Number: 052-EE056/MD06-S061-001.

Nature of Requirement: Section 891.100(d) prohibits amendment of the amount of the approved capital advance funds prior to closing.

Granted by: Brian D. Montgomery, Assistant Secretary for Housing—Federal Housing Commissioner.

Date Granted: March 19, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Village of Hope, Columbia, TN, Project Number: 086-HD038/TN43-Q061-002.

Nature of Requirement: Section 891.100(d) prohibits amendment of the amount of the approved capital advance funds prior to closing.

Granted by: Brian D. Montgomery, Assistant Secretary for Housing—Federal Housing Commissioner.

Date Granted: March 21, 2008.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: TELACU La Esperanza, Pomona, CA, Project Number: 122-EE199/CA16-S051-001.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: January 10, 2008.

Reason Waived: The sponsor/owner needed additional time to obtain approval of the project's design from the city and additional funding.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Project Beginnings I, Akron & Lakemore Village, Akron, OH, Project Number: 042-HD129/OH12-Q051-002.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: January 13, 2008.

Reason Waived: The sponsor/owner needed additional time for the firm commitment to be issued and for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: D Street Senior Housing, Ontario, CA, Project Number: 143-EE060/CA43-S051-002.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: January 16, 2008.

Reason Waived: The sponsor/owner needed additional time to secure additional funding.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Morning Star Senior Residences, Rock Island, IL, Project Number: 071-EE216/IL06-S051-011.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: January 16, 2008.

Reason Waived: The sponsor/owner needed additional time for a new site to be approved, the firm commitment to be issued and for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Southern Breeze, Eunice, LA, Project Number: 064-EE199/LA48-S051-015.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: January 22, 2008.

Reason Waived: The sponsor/owner needed additional time for the firm commitment application to be resubmitted and for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Hughes Homes, Catonsville, MD, Project Number: 052-HD070/MD06-Q051-004.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: January 22, 2008.

Reason Waived: The sponsor/owner needed additional time to resolve architectural plans and specification issues and for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Mulberry Apartments, Wayne, WV, Project Number: 045-HD041/WV15-Q051-001.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: January 23, 2008.

Reason Waived: The sponsor/owner needed additional time to secure additional funding and for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Academy Place, Gowanda, NY, Project Number: 014-EE253/NY06-S051-009.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: January 23, 2008.

Reason Waived: Additional time was needed for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Ictineo Apartments, Hartford, CT, Project Number: 017-HD036/CT26-Q051-001.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: January 23, 2008.

Reason Waived: The sponsor/owner needed additional time for a new site to be approved, the firm commitment to be issued and for the project to be initially closed.

Contact: Willie Spearmon, Director, Office of Housing Assistance and Grant Administration, Department of Housing and Urban Development, 451 Seventh Street, SW., Room 6134, Washington, DC 20410-8000, telephone (202) 708-3000.

• Regulation: 24 CFR 891.165.

Project/Activity: Vista California Supportive Housing, Vista, CA, Project Number: 129-HD030/CA33-QO41-001.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: January 23, 2008.

Reason Waived: The sponsor/owner needed additional time to secure additional funding.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: West Bergen ILP 2005, Ridgewood, NJ, Project Number: 031-HD145/NJ39-Q051-001.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: January 23, 2008.

Reason Waived: The sponsor/owner needed additional time to resolve design issues required by the Ridgewood Township Planning Board and for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: OMHS Housing 2005, Barnegat, NJ, Project Number: 035-HD062/NJ39-Q051-005.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: January 23, 2008.

Reason Waived: The sponsor/owner needed additional time to obtain a new contractor and for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: AASC Housing II, Anchorage, AK, Project Number: 176-HD027/AK06-Q051-001.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: January 25, 2008.

Reason Waived: The sponsor/owner needed additional time to locate a new site, to submit the firm commitment application, and for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Apostles Village, Brandon, FL, Project Number: 067-EE137/FL29-S051-005.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: February 1, 2008.

Reason Waived: The sponsor/owner needed additional time to resolve issues concerning restrictive zoning, off-site drainage requirements and construction costs.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Grayson Bay Housing Corporation, Marshfield, WI, Project Number: 075-HD090/WI39-Q051-002.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: February 6, 2008.

Reason Waived: The sponsor/owner needed additional time to resolve site issues and for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Project Beginning II, Cleveland, OH, Project Number: 042-HD130/OH12-Q051-003.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: February 13, 2008.

Reason Waived: The sponsor/owner needed additional time for the new site to be approved, for the firm commitment to be processed, and for the project to reach initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Arbor Court, Fresno, CA, Project Number: 121-HD083/CA39-Q041-003.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: February 19, 2008.

Reason Waived: The sponsor/owner needed additional time to finalize design issues, secure additional funding and for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Hogar Adventista, Naguabo, PR, Project Number: 056-EE070/RQ46-S051-001.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: February 19, 2008.

Reason Waived: The sponsor/owner needed additional time to obtain the necessary permits for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Jawonio Residential Opportunities III, Rockland County, NY, Project Number: 012-HD119/NY36-Q031-004.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: February 20, 2008.

Reason Waived: Additional time was needed for the firm commitment to be issued and for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Indian Rock Supportive Housing, Saugus, MA, Project Number: 023-EE175/MA06-S041-010.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: February 29, 2008.

Reason Waived: The sponsor/owner needed additional time to obtain a new contractor and for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Kaaterskill Manor, Catskill, NY, Project Number: 014-EE252/NY06-S051-008.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: February 29, 2008.

Reason Waived: The sponsor/owner needed additional time to obtain final approval from the local planning and zoning boards and for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Lyons Place, Dayton, OH, Project Number: 046-EE078/OH10-S051-001.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: February 29, 2008.

Reason Waived: The sponsor/owner needed additional time to complete the firm commitment application and for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Paschall Senior Housing, Philadelphia, PA, Project Number: 034-EE145/PA26-S051-005.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: February 29, 2008.

Reason Waived: The sponsor/owner needed additional time to obtain zoning approval and for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Clearlake Oaks Manor, Clearlake Oaks, CA, Project Number: 121-EE174/CA39-S041-005.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: March 6, 2008.

Reason Waived: The sponsor/owner needed additional time to finalize the acquisition of the new site and for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Toby House VII, Phoenix, AZ, Project Number: 123-HD039/AZ20-Q051-001.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: March 6, 2008.

Reason Waived: The sponsor/owner needed additional time to secure sites, obtain a more experienced Architect, and for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Vernon Street Residence, Framingham, MA, Project Number: 023-HD222/MA06-Q051-004.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: March 7, 2008.

Reason Waived: The sponsor/owner needed additional time to complete the zoning approval process, for the firm commitment to be processed, and for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Folsom Oaks, Folsom, CA, Project Number: 136-HD017/CA30-Q041-001.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: March 7, 2008.

Reason Waived: The sponsor/owner needed additional time to resolve zoning issues, secure additional funds, and for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Convent Hill Apartments, Milwaukee, WI, Project Number: 075-EE133/WI39-S041-004.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: March 7, 2008.

Reason Waived: The sponsor/owner needed additional time to obtain a new contractor and for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Harshfield Terrace, Quartz Hill, CA, Project Number: 122-EE195/CA16-S041-006.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: March 7, 2008.

Reason Waived: The sponsor/owner needed additional time to resolve entitlement issues, to review environmental plans, and for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Alex Apartments, West Carrollton, OH, Project Number: 046-HD032/OH10-Q051-001.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: March 13, 2008.

Reason Waived: The sponsor/owner needed additional time to resolve litigation issues over the City's reversal of proper zoning and neighborhood opposition.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Mary Griffith House, Heavener, OK, Project Number: 118-HD036/OK56-Q051-005.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: March 17, 2008.

Reason Waived: The sponsor/owner needed additional time to obtain a new site, for the firm commitment to be processed, and for the project to reach initial closing.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Kirkland Homes, Hagerstown, MD, Project Number: 052-HD068/MD06-Q051-002.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: March 26, 2008.

Reason Waived: The sponsor/owner needed additional time for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: MHA Mohr Place II, Wichita, KS, Project Number: 102-EE028/KS16-S051-001.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: March 27, 2008.

Reason Waived: The sponsor/owner needed additional time for revisions to be made to the project's plans and specifications, for the firm commitment application to be reprocessed, and for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Lakeview Properties, Baltimore, MD, Project Number: 052-HD071/MD06-Q051-005.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: March 27, 2008.

Reason Waived: Additional time was needed for the firm commitment application to be processed and for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Bristol Place Apartments, Bryant, AR, Project Number: 082-EE170/AR37-S051-002.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: March 27, 2008.

Reason Waived: The sponsor/owner needed additional time for the firm commitment to be issued and for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Homes of Care I, Lawrence, MA, Project Number: 023-HD218/MA06-Q041-007.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: March 27, 2008.

Reason Waived: The sponsor/owner needed additional time for initial closing to take place.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Ohana Homes, Sykesville, MD, Project Number: 052-HD067/MD06-Q051-001.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: March 27, 2008.

Reason Waived: The sponsor/owner needed additional time for initial closing to take place.

Contact: Willie Spearmon, Director, Office of Housing Assistance and Grant Administration, Office of Housing, Department of Housing and Urban Development, 451 Seventh Street, SW., Room 6134, Washington, DC 20410-8000, telephone (202) 708-3000.

• Regulation: 24 CFR 891.165 and 24 CFR 891.830(b).

Project/Activity: Hale Mahaolu Ehiku, Phase IB, Kihei, HI, Project Number: 140-EE028/HI10-S021-001.

Nature of Requirement: Section 891.165 provides that the duration of the fund reservation of the capital advance is 18 months from the date of issuance with limited exceptions up to 24 months, as approved by HUD on a case-by-case basis. Section 891.830(b) requires that capital advance funds be drawn down only in an approved ratio to other funds in accordance with a drawdown schedule approved by HUD.

Granted by: Brian D. Montgomery, Assistant Secretary for Housing—Federal Housing Commissioner.

Date Granted: March 24, 2008.

Reason Waived: Additional time was needed for issuance of a firm commitment and for the initial closing to occur. Also, because the other funding sources needed to be disbursed at a faster rate than a pro rata disbursement would allow.

Contact: Willie Spearmon, Director, Office of Housing Assistance and Grant Administration, Office of Housing, Department of Housing and Urban Development, 451 Seventh Street, SW., Room 6134, Washington, DC 20410-8000, telephone (202) 708-3000.

• Regulation: 24 CFR 891.165 and 24 CFR 891.830(b) and 24 CFR 891.830(c)(4).

Project/Activity: Hale Mahaolu Ehiku, Phase II, Kihei, HI, Project Number: 140-EE035/HI10-S051-002.

Nature of Requirement: Section 891.165 provides that the duration of the fund reservation of the capital advance is 18 months from the date of issuance with limited exceptions up to 24 months, as approved by HUD on a case-by-case basis. Section 891.830(b) requires that capital advance funds be drawn down only in approved ratio to other funds in accordance with a drawdown schedule approved by HUD. Section 891.830(c)(4) prohibits the capital advance funds from paying off bridge or construction financing, or repaying or collateralizing bonds.

Granted by: Brian D. Montgomery, Assistant Secretary for Housing—Federal Housing Commissioner.

Date Granted: March 26, 2008.

Reason Waived: Additional time was needed for the firm commitment to be issued and for the project to be initially/finally closed. Also, because the other funding sources needed to be disbursed faster than a pro rata disbursement would allow, and to permit capital advance funds to pay off the portion of the construction financing that strictly relate to capital advance eligible costs.

Contact: Willie Spearmon, Director, Office of Housing Assistance and Grant Administration, Office of Housing, Department of Housing and Urban Development, 451 Seventh Street, SW., Room 6134, Washington, DC 20410-8000, telephone (202) 708-3000.

• Regulation: 24 CFR 891.205.

Project/Activity: Caring Incorporated Senior Housing II, Pleasantville, NJ, Project Number: 035-EE055/NJ39-S071-005.

Nature of Requirement: Section 891.205 requires Section 202 project owners to have tax exemption status under Section 501(c)(3) or (c)(4) of the Internal Revenue Code.

Granted by: Brian D. Montgomery, Assistant Secretary for Housing—Federal Housing Commissioner.

Date Granted: January 22, 2008.

Reason Waived: The required tax-exemption ruling from IRS is to be issued, but not in time for the scheduled initial closing of the project.

Contact: Willie Spearmon, Director, Office of Housing Assistance and Grant Administration, Office of Housing, Department of Housing and Urban Development, 451 Seventh Street, SW., Room 6134, Washington, DC 20410-8000, telephone (202) 708-3000.

• Regulation: 24 CFR 891.205.

Project/Activity: Port Town Village II, Urbanna, VA, Project Number: 051-EE118/VA36-S071-003.

Nature of Requirement: Section 891.205 requires Section 202 project owners to have tax exemption status under Section 501(c)(3) or (c)(4) of the Internal Revenue Code.

Granted by: Brian D. Montgomery, Assistant Secretary for Housing—Federal Housing Commissioner.

Date Granted: January 23, 2008.

Reason Waived: The required tax-exemption ruling from IRS is to be issued, but not in time for the scheduled initial closing of the project.

Contact: Willie Spearmon, Director, Office of Housing Assistance and Grant Administration, Office of Housing, Department of Housing and Urban Development, 451 Seventh Street, SW., Room 6134, Washington, DC 20410-8000, telephone (202) 708-3000.

• Regulation: 24 CFR 891.205.

Project/Activity: Ivy Residence II, Philadelphia, PA, Project Number: 034-EE153/PA26-S071-001.

Nature of Requirement: Section 891.205 requires Section 202 project owners to have tax exemption status under Section 501(c)(3) or (c)(4) of the Internal Revenue Code.

Granted by: Brian D. Montgomery, Assistant Secretary for Housing—Federal Housing Commissioner.

Date Granted: March 7, 2008.

Reason Waived: The required tax-exemption ruling from IRS was to be issued, but not in time for the scheduled initial closing of the project.

Contact: Willie Spearmon, Director, Office of Housing Assistance and Grant Administration, Office of Housing, Department of Housing and Urban Development, 451 Seventh Street, SW., Room 6134, Washington, DC 20410-8000, telephone (202) 708-3000.

• Regulation: 24 CFR 891.310(b)(1).

Project/Activity: Jawonio Residential Opportunties III, Rockland County, NY, Project Number: 012-HD119/NY36-Q031-004.

Nature of Requirement: Section 891.310(b)(1) requires that all entrances, common areas, units be occupied by resident staff, and amenities must be readily accessible to and usable by persons with disabilities.

Granted by: Brian D. Montgomergy, Assistant Secretary for Housing—Federal Housing Commissioner.

Date Granted: March 3, 2008.

Reason Waived: The design of the existing structure is such that it would not be economically or architecturally feasible to make both group homes feasible. However, one of the group homes would be feasible as well as over twenty-five (25) percent of the sponsor's other units are accessible.

Contact: Willie Spearmon, Director, Office of Housing Assistance and Grant Administration, Office of Housing, Department of Housing and Urban Development, 451 Seventh Street, SW., Room 6134, Washington, DC 20410-8000, telephone (202) 798-3000.

• Regulation: 24 CFR 891.310(b)(1) and 891.310(b)(2).

Project/Activity: Venture OPTS 2005, Suffern, NY, Project Number: 012-HD130/NY36-Q051-004.

Nature of Requirement: Section 891.310(b)(1) requires that all entrances, common areas, units to be occupied by resident staff, and amenities must be readily accessible to and usable by persons with disabilities. Section 891.310(b)(2) requires that a minimum of 10 percent of all bedrooms and bathrooms in a group home for the chronically mentally ill be accessible or adaptable for persons with disabilities.

Granted by: Brian D. Montgomery, Assistant Secretary for Housing—Federal Housing Commissioner.

Date Granted: March 3, 2008.

Reason Waived: The design of three of the four existing single family homes is such that it would not be economically or architecturally feasible to make all four group homes accessible. One group home would be accessible and if additional accessible units were needed, the sponsor has other permanent housing projects which are accessible.

Contact: Willie Spearmon, Director, Office of Housing Assistance and Grant Administration, Office of Housing, Department of Housing and Urban Development, 451 Seventh Street, SW., Room 6134, Washington, DC 20410-8000, telephone (202) 798-3000.

• Regulation: 24 CFR 891.410(c).

Project/Activity: Joy Court Village Apartments, Americus, Georgia—FHA Project Number 061-EE083. This project continues to experience difficulty in leasing its units to very low-income elderly tenants.

Nature of Requirement: Section 891.410 relates to admission of families to projects for elderly or handicapped families that receive reservations under Section 202 of the Housing Act of 1959, as amended by Section 801 of the National Affordable Housing Act of 1990. Section 891.410(c) limits occupancy to very low-income elderly persons. To qualify, households must include a minimum of one person who is at least 62 years of age at the time of initial occupancy.

Granted by: Brian D. Montgomery, Assistant Secretary for Housing—Federal Housing Commissioner.

Date Granted: March 26, 2008.

Reason Waived: This property is located in a largely rural area. The project had been experiencing difficulty in renting its units since initial occupancy in November 2002. Currently 17 of 20 units are occupied. There are three applicants that meet the age waiver criteria and were on a waiting list. The owner/managing agent continued to aggressively market the property with the local authorities, news media, churches and various civic organizations. The provisions of 24 CFR 891.410(c) were waived in order to allow the agent to continue to lease to individuals between the ages of 55 and 62 years of age, allowing the owner to maintain full occupancy and save the project from failing. Priority admission would continue for elderly applicants age 62 and over.

Contact: Beverly J. Miller, Director, Office of Asset Management, Office of Housing, Department of Housing and Urban Development, 451 Seventh Street, SW., Room 6160, Washington, DC 20410-8000, telephone (202) 708-3730.

• Regulation: 24 CFR 891.410(c).

Project/Activity: Cedar Ridge Apartments, Ravenden, Arkansas, FHA Project Number 082-EE128. The property is currently experiencing vacancy problems with two vacancies at the 12-unit property.

Nature of Requirement: Section 891.410 relates to admission of families to projects for elderly or handicapped families that receive reservations under Section 202 of the Housing Act of 1959, as amended by Section 801 of the National Affordable Housing Act of 1990. Section 891.410(c) limits occupancy to very low-income elderly persons. To qualify, households must include a minimum of one person who is at least 62 years of age at the time of initial occupancy.

Granted by: Brian D. Montgomery, Assistant Secretary for Housing—Federal Housing Commissioner.

Date Granted: March 26, 2008.

Reason Waived: This regulatory waiver was granted because if continued, the current vacancy rate would cause financial hardship for the project. The owner was unable to attract very low-income elderly persons. Appropriate and extensive advertising and outreach programs have been conducted, including marketing the property to the local housing authority and news media. The waiver was granted to allow the owner the ability to offer units to individuals who meet the definition of lower income, near elderly, which should increase occupancy levels at the property and, therefore, stabilize the project's current financial status. First priority will be given to all qualified eligible applicants who meet the Section 202 very low-income guidelines.

Contact: Beverly J. Miller, Director, Office of Asset Management, Office of Housing, Department of Housing and Urban Development, 451 Seventh Street, SW., Room 6160, Washington, DC 20410-8000, telephone (202) 708-3730.

• Regulation: 24 CFR 891.410(c).

Project/Activity: Cherry Hill Apartments, Spring City, Tennessee, FHA Project Number 087-EE006. The owner/managing agent requested waiver of the very low-income restriction and elderly restriction in order to permit admission of low-income elderly applicants.

Nature of Requirement: Section 891.410 relates to admission of families to projects for elderly or handicapped families that receive reservations under Section 202 of the Housing Act of 1959, as amended by Section 801 of the National Affordable Housing Act of 1990. Section 891.410(c) limits occupancy to very low-income elderly persons. To qualify, households must include a minimum of one person who is at least 62 years of age at the time of initial occupancy.

Granted by: Brian D. Montgomery, Assistant Secretary for Housing—Federal Housing Commissioner.

Date Granted: March 12, 2008.

Reason Waived: The property currently has 7 vacant units with no waiting list. The property is located in a rural setting and the local housing market indicates that there is not sufficient demand for very low-income elderly housing. The owner/managing agent continued to aggressively market the property with the local housing authorities and various religious, social and community organizations. It was determined that providing a waiver would allow the owner/managing agent an opportunity to stabilize the project's current financial status, and prevent foreclosure. First priority will be given to all qualified applicants who meet the Section 202 very low-income guidelines.

Contact: Beverly J. Miller, Director, Office of Asset Management, Office of Housing, Department of Housing and Urban Development, 451 Seventh Street, SW., Room 6160, Washington, DC 20410-7000, telephone (202) 708-3730.

• Regulation: 24 CFR 891.410(c).

Project/Activity: Christopher Homes of Strong, Strong, Arkansas—FHA Project Number 082-EE009. This project currently has 9 vacancies out of 20 units with no waiting list.

Nature of Requirement: Section 891.410 relates to admission of families to projects for elderly or handicapped families that receive reservations under Section 202 of the Housing Act of 1959, as amended by Section 801 of the National Affordable Housing Act of 1990. Section 891.410(c) limits occupancy to very low-income elderly persons. To qualify, households must include a minimum of one person who is at least 62 years of age at the time of initial occupancy.

Granted by: Brian D. Montgomery, Assistant Secretary for Housing—Federal Housing Commissioner.

Date Granted: January 21, 2008.

Reason Waived: A waiver of the very low-income and elderly restriction was granted in order to permit admission of lower-income (incomes between 51 and 80 percent of median) applicants where there are no very low-income elderly applicants to fill vacant units and allow a reduction of the age limit from 62 to 55 years of age for the subject project. The owner/managing agent reported a 45 percent vacancy rate despite aggressive marketing efforts. The local housing market indicated there is not sufficient demand for very low-income elderly housing. The waiver would allow flexibility to offer units to lower income, near elderly and, thus, the owner will be able to increase occupancy levels and, hopefully, achieve full occupancy. The project should not fail at full occupancy.

Contact: Beverly J. Miller, Director, Office of Asset Management, Office of Housing, Department of Housing and Urban Development, 451 Seventh Street, SW., Room 6160, Washington, DC 20410-8000, telephone (202) 708-3730.

Project/Activity: Oakwood Gardens, Mount Vernon, New York—FHA Project Numbers 012-57139V and 012-57139W. The owner has requested prepayment approval of their two HUD-Held mortgages. In addition, they are requesting the Department to assign the mortgages to the purchasing entity's new mortgagee, for mortgage recording tax savings in the State of New York.

Nature of Requirement: HUD's regulations governing the sale of HUD-Held mortgages are set forth in 24 CFR Part 290, subpart B, Section 290.30(a) of those regulations state that “[e]xcept as otherwise provided in Section 290.31(a)(2), HUD will sell HUD-Held multifamily mortgages on a competitive basis.” Section 290.31(a)(2) permits “negotiated” sales to state or local governments for mortgage loans that are current and secured by subsidized projects, provided such loans are sold with FHA insurance.

Granted by: Brian D. Montgomery, Assistant Secretary for Housing—Federal Housing Commissioner.

Date Granted: January 8, 2008.

Reason Waived: Waiver of the regulations covering the sale of HUD-Held mortgages to allow the non-competitive sale of the HUD-Held mortgages securing the project with FHA insurance was approved. It was determined to be in the public interest and consistent with the Secretary's objectives to waive the appropriate regulations in order to permit the noncompetitive sale to Intervest National Bank. HUD would be paid in full for all three current mortgage loans at closing of this transaction.

Contact: Beverly J. Miller, Director, Office of Asset Management, Office of Housing, Department of Housing and Urban Development, 451 Seventh Street, SW., Room 6160, Washington, DC 20410-8000, telephone (202) 708-3730.

• Regulation: 24 CFR 891.410(c).

Project/Activity: Red Lake Senior Apartments, Red Lake, Minnesota—FHA Project Number 092-EE087. The property currently has 14 vacant units with no waiting list despite aggressive maketing and outreach efforts. The owner/managing agent has requested waiver of the age and income requirement to increase occupancy levels.

Nature of Requirement: Section 891.410 relates to admission of families to projects for elderly or handicapped families that receive reservations under Section 202 of the Housing Act of 1959, as amended by Section 801 of the National Affordable Housing Act of 1990. Section 891.410(c) limits occupancy to very low-income elderly persons. To qualify, households must include a minimum of one person who is at least 62 years of age at the time of initial occupancy.

Granted by: Brian D. Montgomery, Assistant Secretary for Housing—Federal Housing Commissioner.

Date Granted: January 18, 2008.

Reason Waived: A waiver of the income requirement was granted to assist management in renting vacant units at this property. Currently there are 12 occupied units. The project is located in the exterior boundaries of the Red Lake Reservation, and is held in trust for the benefit of the Red Lake Band of Chippewa Indians. The owner/management agent was unable to attract very low-income elderly persons. The waiver would allow the project to fill vacant units and develop a waiting list by expanding their leasing options with low-income, and near elderly applicants.

Contact: Beverly J. Miller, Director, Office of Asset Management, Office of Housing, Department of Housing and Urban Development, 451 Seventh Street, SW., Room 6160, Washington, DC 20410-8000, telephone (202) 708-3730.

• Regulation: 24 CFR 891.520.

Project/Activity: Peace Lake Towers, New Orleans, Louisiana—FHA Project Number 064-EH055. The Fort Worth Multifamily Property Disposition Center is requesting approval to permit the foreclosure use restriction to allow initial occupancy at 55 years of age vs. 62 years of age as required by the current Section 202 regulatory agreement and regulations.

Nature of Requirement: Section 891.520 relates to admission of families to projects for elderly or handicapped families that receive reservations under Section 202 of the Housing Act of 1959, and receive assistance under Section 8 of the United States Housing Act of 1937. Section 891.520 limits occupancy to very low-income elderly persons. To qualify, households must include a minimum of one person who is at least 62 years of age at the time of initial occupancy.

Granted by: Brian D. Montgomery, Assistant Secretary for Housing—Federal Housing Commissioner.

Date Granted: January 9, 2008.

Reason Waived: This property, which consists of 130 units, has remained inoperable since August 2005 when it was affected by Hurricane Katrina. The Fort Worth Multifamily Disposition Center is processing a foreclosure due to the default of the mortgage and for the owner's failure to comply with provisions of the Regulatory Agreement and HAP Contract. Within the City of New Orleans, approximately 3,000 units are designated for the elderly. As part of the foreclosure terms, previous tenants would be offered the right of first refusal to return to the property once it has completed rehabilitation. Based on market conditions, there was a concern that many of the elderly tenants that relocated as a result of Hurricane Katrina had not returned to the market area. Lowering the minimum age of eligibility to occupy the property to age 55 would enhance economic feasibility should there be an insufficient number of potential residents over the age of 65 requiring affordable housing.

Contact: Beverly J. Miller, Director, Office of Asset Management, Office of Housing, Department of Housing and Urban Development, 451 Seventh Street, SW., Room 6160, Washington, DC 20410-8000, telephone (202) 708-3730.

III. Regulatory Waivers Granted by the Office of Public and Indian Housing

For further information about the following regulatory waivers, please see the name of the contact person that immediately follows the description of the waiver granted.

• Regulation: 24 CFR 5.801.

Project Activity: Housing Authority of the City of Danbury (CT020), Danbury, CT.

Nature of Requirement: The regulation establishes certain reporting compliance dates. The audited financial statements are required to be submitted to the Real Estate Assessment Center (REAC) no later than nine months after the housing authority's (HA) fiscal year end, in accordance with the Single Audit Act and OMB Circular A-133.

Granted By: Paula O. Blunt, General Deputy Assistant Secretary for Public and Indian Housing.

Date Granted: January 17, 2008.

Reason Waived: The HA requested a waiver for the removal of the Late Presumptive Failure (LPF) for the audited Financial Assessment Subsystem (FASS) Indicator for FYE December 31, 2006. The HA stated that due to a computer/server crash, the HA did not receive the financial submission rejection letter that resulted in the LPF. The waiver granted the HA invalidation of the LPF and resubmission of the audited financial data.

Contact: Myra E. Newbill, Acting Program Manager, NASS, Real Estate Assessment Center, Office of Public and Indian Housing, Department of Housing and Urban Development, 4550 12th Street, SW., Suite 100, Washington, DC 20410-5000, telephone (202) 475-8988.

• Regulation: 24 CFR 5.801.

Project/Activity: Housing Authority of the City of Gary, Indiana, (IN011), Gary, IN.

Nature of Requirement: The regulation establishes certain reporting compliance dates. The audited financial statements are required to be submitted to the Real Estate Assessment Center (REAC) no later than nine months after the housing authority's (HA) fiscal year end, in accordance with the Single Audit Act and OMB Circular A-133.

Granted by: Paula O. Blunt, General Deputy Assistant Secretary for Public and Indian Housing.

Date Granted: January 17, 2008.

Reason Waived: The HA is a troubled agency and is currently under the HUD Recovery Administrator. The HA is completing the process to ensure compliance with the Generally Accepted Accounting Principles reporting requirements. The waiver granted the HA additional time to submit its audited financial data to the REAC.

Contact: Myra E. Newbill, Acting Program Manager, NASS, Real Estate Assessment Center, Office of Public and Indian Housing, Department of Housing and Urban Development, 4550 12th Street, SW., Suite 100, Washington, DC 20410-5000, telephone (202) 475-8988.

• Regulation: 24 CFR 5.801.

Project/Activity: Housing Authority of Salt Lake City, (UT004), Salt Lake City, UT.

Nature of Requirement: The regulation establishes certain reporting compliance dates. The audited financial statements are required to be submitted to the Real Estate Assessment Center (REAC) no later than nine months after the housing authority's (HA) fiscal year end, in accordance with the Single Audit Act and OMB Circular A-133.

Granted by: Paula O. Blunt, General Deputy Assistant Secretary for Public and Indian Housing.

Date Granted: January 17, 2008.

Reason Waived: The HA requested a waiver for the removal of the Late Presumptive Failure (LPF) for the audited Financial Assessment Subsystem (FASS) Indicator for FYE December 31, 2006. The HA submitted the audited financial data, but it was subsequently rejected by REAC. While attempting to make changes and corrections, the HA realized the LPF had been issued. The waiver granted the HA invalidation of the LPF and resubmission of the audited financial data.

Contact: Myra E. Newbill, Acting Program Manager, NASS, Real Estate Assessment Center, Office of Public and Indian Housing, Department of Housing and Urban Development, 550 12th Street, SW., Suite 100, Washington, DC 20410-5000, telephone (202) 475-8988.

• Regulation: 24 CFR 5.801.

Project/Activity: North Iowa Regional Housing Authority (IA127), Mason City, IA.

Nature of Requirement: The regulation establishes certain reporting compliance dates. The audited financial statements are required to be submitted to the Real Estate Assessment Center (REAC) no later than nine months after the housing authority's (HA) fiscal year end, in accordance with the Single Audit Act and OMB Circular A-133.

Granted by: Paula O. Blunt, General Deputy Assistant Secretary for Public and Indian Housing.

Date Granted: January 17, 2008.

Reason Waived: The HA's audited financial submission was rejected and not submitted on time resulting in a Late Presumptive Failure (LPF) score of zero due to the unavailability of limited staff involved in the process. The waiver granted the HA invalidation of the LPF and resubmission of the audited financial data.

Contact: Myra E. Newbill, Acting Program Manager, NASS, Real Estate Assessment Center, Office of Public and Indian Housing, Department of Housing and Urban Development, 550 12th Street, SW., Suite 100, Washington, DC 20410-5000, telephone (202) 475-8988.

• Regulation: 24 CFR 5.801.

Project/Activity: Cambridge Economic Development Authority, (MN067), Cambridge, MN.

Nature of Requirement: The regulation establishes certain reporting compliance dates. The audited financial statements are required to be submitted to the Real Estate Assessment Center (REAC) no later than nine months after the housing authority's (HA) fiscal year end, in accordance with the Single Audit Act and OMB Circular A-133.

Granted by: Paula O. Blunt, General Deputy Assistant Secretary for Public and Indian Housing.

Date Granted: January 18, 2008.

Reason Waived: The HA requested a waiver for the removal of the Late Presumptive Failure (LPF) score of zero for the audited Financial Assessment Subsystem (FASS) Indicator for FYE December 31, 2006. The HA and the auditor completed the first and second step of the three step audit submission process on October 12, 2007; however, the auditor failed to notify the HA that the process was completed and ready for submission to the REAC. Due to the miscommunication, the HA missed the submission due date that resulted in the LPF. The waiver granted the HA invalidation of the LPF and the resubmission of the audited financial data.

Contact: Myra E. Newbill, Acting Program Manager, NASS, Real Estate Assessment Center, Office of Public and Indian Housing, Department of Housing and Urban Development, 550 12th Street, SW., Suite 100, Washington, DC 20410-5000, telephone (202) 475-8988.

• Regulation: 24 CFR 5.801.

Project/Activity: Alamosa Housing Authority, (CO004), Alamosa, CO.

Nature of Requirement: The regulation establishes certain reporting compliance dates. The audited financial statements are required to be submitted to the Real Estate Assessment Center (REAC) no later than nine months after the housing authority's (HA) fiscal year end, in accordance with the Single Audit Act and OMB Circular A-133.

Granted by: Paula O. Blunt, General Deputy Assistant Secretary for Public and Indian Housing.

Date Granted: February 1, 2008.

Reason Waived: The HA requested a waiver of the audited financial reporting requirements because it was in the process of a fraud audit with the Office of the Inspector General (OIG). The Executive Director was placed on administrative leave and additional time was required to finalize the audit. The waiver granted additional time to the HA to submit its audited financial information to REAC.

Contact: Myra E. Newbill, Acting Program Manager, NASS, Real Estate Assessment Center, Office of Public and Indian Housing, Department of Housing and Urban Development, 550 12th Street, SW., Suite 100, Washington, DC 20410-5000, telephone (202) 475-8988.

• Regulation: 24 CFR 5.801.

Project/Activity: City of Marietta Housing Authority (OH077), Marietta, OH.

Nature of Requirement: The regulation establishes certain reporting compliance dates. The audited financial statements are required to be submitted to the Real Estate Assessment Center (REAC) no later than nine months after the housing authority's (HA) fiscal year end (FYE), in accordance with the Single Audit Act and OMB Circular A-133.

Granted by: Paula O. Blunt, General Deputy Assistant Secretary for Public and Indian Housing.

Date Granted: February 1, 2008.

Reason Waived: The HA, a Section 8 only entity, requested a waiver of the audited financial reporting requirements under the Section 8 Program for FYE March 31, 2007. The Fiscal Officer advised that the grantee city of Marietta's FYE is December 31, 2007, while the FYE for the Housing Choice Voucher Program Office is March 31, 2007. The city is audited by the Ohio State Auditor, while the non-profit corporation that administers the voucher program, is audited by a different accounting firm. The HA was granted a waiver because the circumstances that prevented the HA from submitting the audited financial data were beyond the HA's control. Nevertheless, the HA has initiated steps to change its FYE to coincide with the city's FYE.

Contact: Myra E. Newbill, Acting Program Manager, NASS, Real Estate Assessment Center, Office of Public and Indian Housing, Department of Housing and Urban Development, 550 12th Street, SW., Suite 100, Washington, DC 20410-5000, telephone (202) 475-8988.

• Regulation: 24 CFR 5.801.

Project/Activity: Housing Authority of the City of Slidell, (LA103), Slidell, LA.

Nature of Requirement: The regulation establishes certain reporting compliance dates. The audited financial statements are required to be submitted to the Real Estate Assessment Center (REAC) no later than nine months after the housing authority's (HA) fiscal year end (FYE), in accordance with the Single Audit Act and OMB Circular A-133.

Granted by: Paula O. Blunt, General Deputy Assistant Secretary for Public and Indian Housing.

Date Granted: February 1, 2008.

Reason Waived: The HA requested a waiver of the audited financial reporting requirements for the FYE ending March 31, 2007. The HA stated that it had not received approval from the State of Louisiana Legislative Office to enter into an engagement with a Certified Public Accounting firm in order to conduct the audit. The waiver allowed the HA additional time to submit its audited financial data to REAC.

Contact: Myra E. Newbill, Acting Program Manager, NASS, Real Estate Assessment Center, Office of Public and Indian Housing, Department of Housing and Urban Development, 550 12th Street, SW., Suite 100, Washington, DC 20410-5000, telephone (202) 475-8988.

• Regulation: 24 CFR 5.801.

Project/Activity: Peekskill Housing Authority, (NY082), Peekskill, NY.

Nature of Requirement: The regulation establishes certain reporting compliance dates. The audited financial statements are required to be submitted no later than nine months after the housing authority's (HA) fiscal year end, in accordance with the Single Audit Act and OMB Circular A-133.

Granted by: Paula O. Blunt, General Deputy Assistant Secretary for Public and Indian Housing.

Date Granted: February 1, 2008.

Reason Waived: The HA was granted a waiver because the New York Field Office of HUD was conducting an investigation of the HA that delayed the completion of the audit. The circumstances that prevented the HA from submitting the audited financial data were beyond the HA's control. The waiver granted additional time for the HA to submit the audited financial data to the REAC.

Contact: Myra E. Newbill, Acting Program Manager, NASS, Real Estate Assessment Center, Office of Public and Indian Housing, Department of Housing and Urban Development, 550 12th Street, SW., Suite 100, Washington, DC 20410-5000, telephone (202) 475-8988.

• Regulation: 24 CFR 5.801.

Project/Activity: Detroit Housing Commission, (MI001), Detroit, MI.

Nature of Requirement: The regulation establishes certain reporting compliance dates. Unaudited financial statements are required to be submitted two months after the housing authority's (HA) fiscal year end. Audited financial statements are required no later than nine months after the HA's fiscal year end in accordance with the Single Audit Act and OMB Circular A-133.

Granted by: Paula O. Blunt, General Deputy Assistant Secretary for Public and Indian Housing.

Date Granted: February 29, 2008.

Reason Waived: The HA requested a waiver for additional time to submit the unaudited and audited financial data in order to allow the contracted appraiser to finish the real estate valuation of the property transferred from the City of Detroit to the HA. This allowed the auditor to complete the financial statement process to the Real Estate Assessment Center (REAC). The waiver granted the HA additional time to submit unaudited and audited financial data to the REAC.

Contact: Myra E. Newbill, Acting Program Manager, NASS, Real Estate Center, Office of Public and Indian Housing, Department of Housing and Development, 550 12th Street, SW., Suite 100, Washington, DC 20410-5000, telephone (202) 475-8988.

• Regulation: 24 CFR 5.801.

Project/Activity: Housing Authority of the City of Westminster (MD027), Westminster, MD.

Nature of Requirement: The regulation establishes certain reporting compliance dates. The audited financial statements are required to be submitted to the Real Estate Assessment Center (REAC) no later than nine months after the housing authority's (HA) fiscal year end (FYE), in accordance with the Single Audit Act and OMB Circular A-133.

Granted by: Paula O. Blunt, General Deputy Assistant Secretary for Public and Indian Housing.

Date Granted: March 5, 2008.

Reason Waived: The HA requested a waiver of the due date of March 31, 2008, for the resubmission of their audited financial data for FYE June 30, 2007. The city engaged a firm to perform the audit and submitted the signed agreement. However, the agency underwent an accounting system change which precluded the generation of audit evidence until six months after the FYE. In addition, the Director of Finance responsible for generating the audit evidence was ill until early January 2008. The waiver granted the HA additional time to submit audited financial data.

Contact: Myra E. Newbill, Acting Program Manager, NASS, Real Estate Assessment Center, Office of Public and Indian Housing, Department of Housing and Urban Development, 550 12th Street, SW., Suite 100, Washington, DC 20410-5000, telephone (202) 475-8988.

• Regulation: 24 CFR 5.801.

Project/Activity: Housing Authority of Brevard County, (FL020), Merritt Island, FL.

Nature of Requirement: The regulation establishes certain reporting compliance dates. The audited financial statements are required to be submitted to the Real Estate Assessment Center (REAC) no later than nine months after the housing authority's (HA) fiscal year end (FYE), in accordance with the Single Audit Act and OMB Circular A-133.

Granted by: Paula O. Blunt, General Deputy Assistant Secretary for Public and Indian Housing.

Date Granted: March 19, 2008.

Reason Waived: The HA requested a waiver for the removal of the Late Presumptive Failure (LPF) score of zero for the audited Financial Assessment Subsystem (FASS) Indicator for FYE March 31, 2007. The HA and the auditor completed the first and second step of the three-step audit submission process. However, the auditor failed to notify the HA that the process was completed and ready for submission to the REAC. Due to the miscommunication, the HA missed the submission due date that resulted in the LPF. The waiver granted the HA invalidation of the LPF and the resubmission of the audited financial data.

Contact: Myra E. Newbill, Acting Program Manager, NASS, Real Estate Assessment Center, Office of Public and Indian Housing, Department of Housing and Urban Development, 550 12th Street, SW., Suite 100, Washington, DC 20410-5000, telephone (202) 475-8988.

• Regulation: 24 CFR 5.801.

Project/Activity: Kent County Housing Commission (MI198), Grand Rapids, MI.

Nature of Requirement: The regulation establishes certain reporting compliance dates. The audited financial statements are required to be submitted to the Real Estate Assessment Center (REAC) no later than nine months after the housing authority's (HA) fiscal year end (FYE), in accordance with the Single Audit Act and OMB Circular A-133.

Granted by: Paula O. Blunt, General Deputy Assistant Secretary for Public and Indian Housing.

Date Granted: March 24, 2008.

Reason Waived: The HA, a Section 8 only entity, requested a waiver of the audited financial reporting requirements under the Section 8 Program for FYE June 30, 2007. The County of Kent FYE is December 31, 2007, and the HA's FYE is June 30, 2007, which results in a timing difference between the audit due dates. The HA is in the process of changing the FYE to correspond with the FYE of the primary government. The HA was granted a waiver because the circumstances that prevented the HA from submitting the audited financial data were beyond the HA's control.

Contact: Myra E. Newbill, Acting Program Manager, NASS, Real Estate Assessment Center, Office of Public and Indian Housing, Department of Housing and Urban Development, 550 12th Street, SW., Suite 100, Washington, DC 20410-5000, telephone (202) 475-8988.

• Regulation: 24 CFR 5.801.

Project/Activity: Michigan State Housing Development Authority, (MI901), Lansing, MI.

Nature of Requirement: The regulation establishes certain reporting compliance dates. The audited financial statements are required to be submitted to the Real Estate Assessment Center (REAC) no later than nine months after the housing authority's (HA) fiscal year end (FYE), in accordance with the Single Audit Act and OMB Circular A-133.

Granted by: Paula O. Blunt, General Deputy Assistant Secretary for Public and Indian Housing.

Date Granted: March 24, 2008.

Reason Waived: The HA, a Section 8 only entity, requested a waiver of audited financial submission for FYE June 30, 2007. The HA implemented a new integrated software program to better manage resources. However, the implementation of the new software fell behind schedule resulting in late critical information to their accounting firm. The waiver granted the HA additional time to submit audited financial data.

Contact: Myra E. Newbill, Acting Program Manager, NASS, Real Estate Assessment Center, Office of Public and Indian Housing, Department of Housing and Urban Development, 550 12th Street, SW., Suite 100, Washington, DC 20410-5000, telephone (202) 475-8988.

• Regulation: 24 CFR 902.60(d) and 24 CFR 902.60(e).

Project/Activity: Housing Authority of Knox County Housing Authority (IL085).

Nature of Requirement: The referenced regulations establish requirements for annual certification of management operations and resident satisfaction surveys.

Granted by: Paula O. Blunt, General Deputy Assistant Secretary for Public and Indian Housing.

Date Granted: January 15, 2008.

Reason Waived: The Housing Authority of Knox County requested a waiver to have more resources to concentrate on organizational, procedural and software changes to convert to asset management. This request is in accordance with 24 CFR 5.110. The HA was waived from the requirements of 24 CFR 902.60(d), to submit a management operations certification, and 24 CFR 902.60(e), from the resident satisfaction survey, for the fiscal year ending September 30, 2007. The Management Assessment Subsystem (MASS) and Resident Assessment Subsystem (RASS) scores under the Public Housing Assessment System from the previous reporting period were carried over.

Contact: Greg Byrne, Director, Financial Management Division, Real Estate Assessment Center, Office of Public and Indian Housing, Department of Housing and Urban Development, 550 12th Street, SW., Suite 200, Washington, DC 20410-5000, telephone (202) 475-8632.

• Regulation: 24 CFR 902.60(d) and 24 CFR 902.60(e).

Project/Activity: Portage Metropolitan Housing Authority (OH031), Ravenna, OH.

Nature of Requirement: The referenced regulations establish requirements for annual certification of management operations and resident satisfaction surveys.

Granted by: Paula O. Blunt, General Deputy Assistant Secretary for Public and Indian Housing.

Date Granted: February 5, 2008.

Reason Waived: The Portage Metropolitan Housing Authority requested a waiver to have more resources to concentrate on organizational, procedural and software changes to convert to asset management. This request is in accordance with 24 CFR 5.110. The HA was waived from the requirements of 24 CFR 902.60(d), to submit a management operations certification, and 24 CFR 902.60(e), from the resident satisfaction survey, for the fiscal year ending December 31, 2007. The Management Assessment Subsystem (MASS) and Resident Assessment Subsystem (RASS) scores under the Public Housing Assessment System from the previous reporting period were carried over.

Contact: Greg Byrne, Director, Financial Management Division, Real Estate Assessment Center, Office of Public and Indian Housing, Department of Housing and Urban Development, 550 12th Street, SW., Suite 200, Washington, DC 20410-5000, telephone (202) 475-8632.

• Regulation: 24 CFR 941.606(n)(1)(ii)(B).

Project/Activity: St. Louis Housing Authority (SLHA), St. Louis, MO Cochran Gardens II of the Cochran Gardens HOPE VI (Housing Opportunity for People Everywhere) program.

Nature of Requirement: The regulation states “that if the partner and/or owner entity (or any other entity with an identity of interest with such parties) wants to serve as the general contractor for the project or development, it may award itself the construction contract only if it can demonstrate to HUD's satisfaction that its bid is the lowest bid submitted in response to a public request for bids.”

Granted by: Paula O. Blunt, General Deputy Assistant Secretary for Public and Indian Housing.

Date Granted: February 21, 2008.

Reason Waived: HUD waives this regulation on the condition that an independent, third party construction cost estimate is submitted that demonstrates that the proposed cost for the development is reasonable and at or below the independent estimate. The contract costs were below the independent estimate provided by SLHA. In addition, the general contractor committed to bid out all construction work at the trade levels.

Contact: Dominique Blom, Deputy Assistant Secretary for the Office of Public Housing Investments, 451 Seventh Street, SW., Washington, DC 20140-5000, Room 4130, telephone (202) 402-4181.

• Regulation: 24 CFR 941.606(n)(1)(ii)(B.)

Project/Activity: DeKalb County Housing Authority (DCHA), DeKalb County, GA, Ashford Landing Phase II.

Nature of Requirement: The regulation states “that if the partner and/or owner entity (or any other entity with an identity of interest with such parties) wants to serve as the general contractor for the project or development, it may award itself the construction contract only if it can demonstrate to HUD's satisfaction that its bid is the lowest bid submitted in response to a public request for bids.”

Granted by: Paula O. Blunt, General Deputy Assistant Secretary for Public and Indian Housing.

Date Granted: March 18, 2008.

Reason Waived: HUD waives this regulation on the condition that an independent, third party construction cost estimate is submitted that demonstrates that the proposed cost for the development is reasonable and at or below the independent estimate. The contract costs were below the independent estimate provided by DCHA. In addition, the general contractor committed to bid out all construction work at the trade levels.

Contact: Dominique Blom, Deputy Assistant Secretary for the Office of Public Housing Investments, Office of Public and Indian Housing, Department of Housing and Urban Development, 451 Seventh Street, SW., Washington, DC 20140-5000, Room 4130, telephone (202) 402-4181.

• Regulation: 24 CFR 982.505(d).

Project/Activity: Housing Authority of the City of Los Angeles (HACLA), Los Angeles, CA. The HACLA requested a waiver regarding exception payment standards so that it could provide a reasonable accommodation to a person with disabilities.

Nature of Requirement: Section 982.505(d) states that a public housing agency may only approve a higher payment standard for a family as a reasonable accommodation if the higher payment standard is within the basic range of 90 to 110 percent of the fair market rent (FMR) for the unit size.

Granted by: Orlando J. Cabrera, Assistant Secretary for Public and Indian Housing.

Date: January 4, 2008.

Reason Waived: The participant, who is an elderly person with disabilities and unable to move to another unit without difficulty, was paying in excess of 75 percent of her adjusted income toward her share of the rent as a result of a large rent increase. To provide a reasonable accommodation so that this participant would pay no more than 40 percent of adjusted income toward the family share, the HACLA was allowed to approve an exception payment standard that exceeded the basic range of 90 to 110 percent of the FMR.

Contact: Danielle Bastarache, Director, Housing Voucher Management and Operations Division, Office of Public Housing and Voucher Programs, Office of Public and Indian Housing, Department of Housing and Urban Development, 451 Seventh Street, SW., Room 4210, Washington, DC 20410; (202) 708-0477.

• Regulation: 24 CFR 982.505(d).

Project/Activity: Housing Authority of Snohomish County (HASC) Snohomish County, WA.

Nature of Requirement: Section 982.505(d) of HUD's regulations states that a public housing agency may only approve a higher payment standard for a family as a reasonable accommodation if the higher payment standard is within the basic range of 90 to 110 percent of the fair market rent (FMR) for the unit size.

Granted by: Paula O. Blunt, General Deputy Assistant Secretary.

Date Granted: January 29, 2008.

Reason Waived: HASC requested a waiver regarding exception payment standard to provide reasonable accommodation to a person with disabilities. The applicant, a person with disabilities, owns a manufactured home that meets her physical needs and is accessible to her physician. To provide a reasonable accommodation so that this applicant paid no more than 40 percent of adjusted income toward the family share, the HASC was allowed to approve an exception payment standard that exceeded the basic range of 90 to 110 percent of the FMR.

Contact: Danielle Bastarache, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(d).

Project/Activity: Housing Authority of the City of Los Angeles (HACLA), Los Angeles, CA.

Nature of Requirement: Section 982.505(d) of HUD's regulations states that a public housing agency may only approve a higher payment standard for a family as a reasonable accommodation if the higher payment standard is within the basic range of 90 to 110 percent of the fair market rent (FMR) for the unit size.

Granted by: Paula O. Blunt, General Deputy Assistant Secretary for Public and Indian Housing.

Date Granted: February 7, 2008.

Reason Waived: HACLA requested a waiver regarding exception payment standards so to provide reasonable accommodations to persons with disabilities. The participants, who are elderly with multiple disabilities and unable to move to another unit without difficulty, were paying in excess of 54 percent of their adjusted income toward their share of the rent as a result of a rent increase. To provide a reasonable accommodation so that the household paid no more than 40 percent of their adjusted income toward the family share, the HACLA was allowed to approve an exception payment standard that exceeded the basic range of 90 to 110 percent of the FMR.

Contact: Danielle Bastarache, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(d).

Project/Activity: Lafayette Housing Authority (LHA), Lafayette, Indiana. The LHA requested a waiver regarding exception payment standards so that it could provide a reasonable accommodation to a person with disabilities.

Nature of Requirement: Section 982.505(d) of HUD's regulations states that a public housing agency may only approve a higher payment standard for a family as a reasonable accommodation if the higher payment standard is within the basic range of 90 to 110 percent of the fair market rent (FMR) for the unit size.

Granted by: Paula O. Blunt, General Deputy Assistant Secretary for Public and Indian Housing.

Date Granted: March 4, 2008.

Reason Waived: The participant is an elderly person with disabilities who owns a manufactured home. The health care provider recommended that this person remain in her unit due to severe emphysema and related health issues. To provide a reasonable accommodation so that this participant would pay no more than 40 percent of adjusted income toward the family share, the LHA was allowed to approve an exception payment standard that exceeded the basic range of 90 to 110 percent of the FMR.

Contact: Danielle Bastarache, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(d).

Project/Activity: Housing Authority of the City of Los Angeles (HACLA), Los Angeles, CA. The HACLA requested a waiver regarding exception payment standards so that it could provide a reasonable accommodation to a person with disabilities.

Nature of Requirement: Section 982.505(d) states that a public housing agency may only approve a higher payment standard for a family as a reasonable accommodation if the higher payment standard is within the basic range of 90 to 110 percent of the fair market rent (FMR) for the unit size.

Granted by: Paula O. Blunt, General Deputy Assistant Secretary for Public and Indian Housing.

Date Granted: March 28, 2008.

Reason Waived: The participant, who is an elderly person with disabilities and unable to move to another unit without difficulty, was paying in excess of 84 percent of her adjusted income toward her share of the rent as a result of a large rent increase. To provide a reasonable accommodation so that this participant would pay no more than 40 percent of adjusted income toward the family share, the HACLA was allowed to approve an exception payment standard that exceeded the basic range of 90 to 110 percent of the FMR.

Contact: Danielle Bastarache, Director, Housing Voucher Management and Operations Division, Office of Public Housing and Voucher Programs, Office of Public and Indian Housing, Department of Housing and Urban Development, 451 Seventh Street, SW., Room 4210, Washington, DC 20410; telephone (202) 708-0477.

• Regulation: 24 CFR 983.51(b)(1).

Project/Activity: Mississippi Regional Housing Authority VI (MRHA VI), Jackson, MS.

Nature of Requirement: Section 983.51(b)(1) of HUD's regulations requires a public housing agency (PHA) to select project-based voucher (PBV) proposals in accordance with selection procedures under an administrative plan. The regulations prohibit the limiting of proposals to a single site and the imposition of restrictions that explicitly or practically preclude owner submission of proposals for PBV housing on different sites.

Granted by: Paula O. Blunt, General Deputy Assistant Secretary for Public and Indian Housing.

Date Granted: March 19, 2008.

Reason Waived: MRHA VI requested a waiver of competitive selection under the PBV program so that it could attach PBVs to PHA-owned units. The units will be developed with available money under an approved 2007 Notice of Intent and Fungibility Plan dated December 21, 2006. The waiver was granted because attaching PBV to these units ensured the maintenance of long-term affordable housing in the relief and recovery efforts in the wake of Hurricane Katrina.

Contact: Danielle Bastarache, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 983.55(b).

Project/Activity: Massachusetts Department of Housing and Community Development (MDHCD), MA.

Nature of Requirement: Section 983.55(b) of HUD's regulations states that the public housing agency (PHA) may not enter into a Housing Assistance Payments (HAP) contract until HUD, or an independent entity approved by HUD, has conducted any required subsidy layering review and determined that the project-based voucher (PBV) assistance is in accordance with HUD subsidy layering requirements.

Granted by: Orlando J. Cabrera, Assistant Secretary for Public and Indian Housing.

Date Granted: January 4, 2008.

Reason Waived: MDHCD requested a waiver of a PBV regulation in order to execute an agreement to enter into a HAP contract prior to the completion of a subsidy layering review in order to meet a closing and construction start date for a project. The waiver was granted for a pilot program that had several funding sources. Access to certain funds had a pending closing date that required action prior to completion of the subsidy layering review. Both the owner and the PHA agreed to reduce contract rents, if necessary, subsequent to completion of the review.

Contact: Danielle Bastarache, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 985.101(a).

Project/Activity: Mississippi Regional Housing Authority VIII (MRHA VIII), MS

Nature of Requirement: Section 985.101(a) of HUD's regulations requires a public housing agency to submit the HUD-required Section 8 Management Assessment Program (SEMAP) certification form within 60 calendar days after the end of its fiscal year.

Granted by: Paula O. Blunt, General Deputy Assistant Secretary for Public and Indian Housing.

Dated Granted: March 7, 2008.

Reason Waived: The MRHA VIIII requested a waiver of SEMAP certification requirements for its fiscal year ending December 31, 2007. The waiver was granted because of the slow recovery rate of the rental housing market after Hurricane Katrina. Eighty percent of the rental market was still off line due, in part, to lack of disbursement of Mississippi's Community Development Block Grant funds for this recovery purpose.

Contact: Danielle Bastarache, Director, Housing Voucher Management and Operations Division, Office of Public Housing and Voucher Programs, Office of Public and Indian Housing, Department of Housing and Urban Development, 451 Seventh Street, SW., Room 4210, Washington, DC 20410-5000, telephone (202) 708-0477.

[FR Doc. E8-14805 Filed 7-1-08; 8:45 am]

BILLING CODE 4210-67-P